DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPAA) of 1996. This listing contains the name of each individual losing their United States citizenship (within the meaning of section 877(a)) with respect to whom the Secretary received information during the quarter ending March 31, 2008.

Last name | First name | Middle name/initials
LEONTE | LUCIAN
FERRARI | BRUNO | F
LEONTE | MARIE
KAFIE | CHRISTOPHER
HARTWELL | CAROL | R
HARTWELL | PETER | D
KWAN | KENNETH | KWOK YUNG
WONG | WING-WAH | MARY
GARRY | NORENE
YIN | ALEC
NISHIDA | HISAOKI
LEE | BRIAN | JUN-JAEH
LEE | BRIAN | JUN-JAEH
ZENI | VICTORIA | C
LU | CLARK | CHIA-CHUEH
SOSKINE | MICHEL
WU | ALAN | KAN WING
FAULK-ANTONAKIS | E | SASKIA
SCHREY nee FRAZIER | DAVID | NEIL
GERRY | JAMES | T
YEH | CHIA LIN | CAROLYN
HODGINS | JESSIE | ELEANOR
SIE | WINSTON
LAM | PETER | AR-FU
TATEMATSU | KAORI
GATTI | MARCEL | FOSTER
WU | ADRIAN | Y
HO | LUCIA | M
NELSON | RENEE | C
JENNINGS | ALICE | W
HOLMES | PAMELA | EVANS
FULLER | STEWART
TANG | HING CHI | WILLIAM
MADELEY | CAROL | A
MCKERN | ROBERT | BRUCE
CHRISTENSEN | BARBARA | D.
D'ARENBERG | PIERRE
OHLSTEIN | ADAM | LEE
HALPERN | MARIA | E
GREENLAND | IAN
TU | TONG | ZHOU
BALL | GEORGE | DEXTER
BALL | YOANNA
MCLEAN | MARGARET
SINGER | RHODA
WHITMAN | MICHAEL
SOHNLE | SUSANNE
BIANCARDI | RAUL | F
CHAU | EUGENE
WANG | FRANK | JOHN
BARLOW III | CHARLES | B
CHOU | YONCHUN
FLORSHEIM | ALEXANDER | CARL GABRIEL
LEE | EDDY | W
COLLINS | NADIA | HODA
NELSON | RON | C
RASKIN | MELANIE | SHUKAMITH
COLLINS | MICHAEL | W
CHANG | CHRISTINA | LEE
KARAM | GEORGE | G
YEOW | ALLEN | YI-PIN
DAHLEN | OVE
LIN | ALEXANDER | LANSON
DELESALLE | MARIA
GELDERLOOS | PADMINI | BHAVANI
TOENNIES | JAN | PETER
KYRIAKOS-SAAD | FAWZI
WONG | BENJAMIN | WAI-BUN
FARABOSCHI | PAOLO
BERNSTEIN | YANIV
LO | MAY
HO | SHUKYEE | SAMATHA
KONG | YAN | YEE, RITA
LEE | DANNY | LAP
WONG | YU | ING
VON WYSS | GEORGE | M.
BONNER JR. | WILLIAM | ROBERT
YAMMINE | BASSAM | ANTOINE
WILLEMSE | NICOLE
WILLIMSE-DIETERS | ANNEMARIEKE
GARDNER | JOHN | R
LINTON | NORMAN | J.
WONG | JEFFREY | WAI
POSEN | DANIEL
SCHLAEPFER | LESLIE
ZENG | WEI
CHAN | DARRIN | CHEONG HEI
SUN | YI
WANG | ZHONGHE
BECKMAN | ROBERT | C.
SHELLY | DEVIN | JAY
FARNCOMBE | ELEANOR | CHRISTINA
KUNG | ERIC
YU | CHRISTOPHER | YING YEUNG
GIANNIOTIS | SPIRIDON
KATSARAS | DIMITRIOS | K.
LEUNG | ERIC | M H
ZHOU | HAO
MULLER | MARC
IP | ANTONY | REN HAW
SIJI | DOMINIC
ENGELMANN | Pamela
CHAN | TINA | YUE LAN
WAI | JANET | CHEN TE
BING-DONS | GETRUDE | GUNDELINDE
WONG | CLARE | YUN-YUE
HARRELL | DOUGLAS | C.
STURZENEGGER | THOMAS | O.
TABAR | SAM | VICTOR
WELLBELOVE | ALEXIA
TSOI | GARY
HERBST | NORMA | J.
CHAN | LILY
SHUM | KEY | ADA
SERRA | VICTOR | LUIZ
LEE | EUGENE | YAPP
KARIBIAN | GEORGE | VAHAK
MOFFETT | SARAH
LUND | HENRY
LUND | MARGARET
MOSDOL | KRISTINE | HELGELAND
CONNERTON | KATHERINE | M
CONNERTON | TIMOTHY | P

Dated: April 14, 2008.
Angie Kaminski,
Manager Team 103, Examinations Operations, Philadelphia Compliance Services.

[FR Doc. E8-10193 FILED 5-7-08; 8:45 am]

BILLING CODE 4830-01-P